ENVIRONMENTAL PROTECTION AGENCY

[EPA-HQ-OW-2011-0465; FRL-9930-00-OW]

Proposed Information Collection Request; Comment Request; Water Quality Standards Regulation (Renewal)

AGENCY: Environmental Protection Agency (EPA).

ACTION: Notice.

SUMMARY: The Environmental Protection Agency (EPA) is planning to submit an information collection request (ICR), “Water Quality Standards Regulation (Renewal)” (EPA ICR No. 0988.12, OMB Control No. 2040-0049) to the Office of Management and Budget (OMB) for review and approval in accordance with the Paperwork Reduction Act (44 U.S.C. 3501 et seq.). Before doing so, EPA is soliciting public comments on specific aspects of the proposed information collection as described below. This is a proposed extension of the ICR, which is currently approved through December 31, 2015. An Agency may not conduct or sponsor and a person is not required to respond to a collection of information unless it displays a currently valid OMB control number.

DATES: Comments must be submitted on or before August 31, 2015.

ADDRESSES: Submit your comments, referencing Docket ID No. EPA-HQ-OW-2011-0465, online using www.regulations.gov (our preferred method), by email to ow-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Tangela Cooper, Office of Water, Office of Science and Technology, Standards and Health Protection Division, (4305T), Environmental Protection Agency, 1200 Pennsylvania Ave. NW., Washington, DC 20460; telephone number: 202-566-0369; fax number: 202-566-0409; email address: cooper.tangela@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Water quality standards are provisions of state,¹ tribal, and federal law that consist of designated uses for waters of the United States, water quality criteria to protect the designated uses, and an antidegradation policy. Section 303(c) of the Clean Water Act requires states and authorized tribes to establish water quality standards, and to review and, if appropriate, revise their water quality standards once every three years. The Act also requires EPA to review and either approve or disapprove the new or revised standards, and to promulgate replacement federal standards if necessary. Section 118(c)(2) of the Act specifies additional water quality standards requirements for waters of the Great Lakes system.

¹ The Clean Water Act defines the term “state” to mean the 50 states, the District of Columbia, and specific territories including Guam, the Commonwealth of Puerto Rico, the Virgin Islands, American Samoa, and the Commonwealth of the Northern Mariana Islands.

The Water Quality Standards regulation (40 CFR part 131 and portions of part 132) governs national implementation of the water quality standards program. The regulation describes requirements and procedures for states and authorized tribes to develop, review, and revise their water quality standards, and EPA procedures for reviewing and approving the water quality standards. The regulation requires the development and submission of information to EPA, including:

—The minimum elements in water quality standards that each state or tribe must submit to EPA for review, including any new or revised water quality standards resulting from the jurisdiction's triennial review (40 CFR 131.6 and 131.20). The elements include use designations for specific water bodies; methods used and analyses conducted to support water quality standards revisions; supporting analysis for use attainability analyses; water quality criteria sufficient to protect the designated uses; methodologies for site-specific criteria development; an antidegradation policy; certification by the jurisdiction's Attorney General or other appropriate legal authority that the water quality standards were duly adopted pursuant to state or tribal law; information that will aid EPA in determining the adequacy of the scientific basis for the standards; and information on general policies that may affect the implementation of the standards.

—Information that an Indian tribe must submit to EPA in order to determine whether a tribe is qualified to administer the water quality standards program (40 CFR 131.8).

—Information a state or tribe must submit if it chooses to exercise a dispute resolution mechanism for disputes between states and tribes over water quality standards on common water bodies (40 CFR 131.7).

—Information related to public participation requirements during state and tribal review and revision of water quality standards (40 CFR 131.20). States and tribes must hold public hearings as part of their triennial reviews, and make any proposed standards and supporting analyses available to the public before the hearing.

The regulation establishes specific additional requirements for water quality standards and their implementation in the waters of the Great Lakes system, contained in the Water Quality Guidance for the Great Lakes System (40 CFR part 132). This portion of the regulation includes the following requirements for information collection: Bioassay tests to support the development of water quality criteria; studies to identify and provide information on antidegradation control measures that will guard against the reduction of water quality in the Great Lakes system; and information collection and record keeping activities associated with analyses and reporting to request regulatory relief from Guidance requirements. The Guidance includes additional information collections that are addressed in separate Information Collection Requests for the National Pollutant Discharge Elimination System program.

Form Numbers: None.

Respondents/affected entities: The Water Quality Standards regulation requires reporting at least once every three years from 96 jurisdictions: 56 states and territories, and Indian tribes with EPA-approved standards (40 tribes as of May 2015). The respondents affected by this collection activity are in North American Industry Classification System (NAICS) code 92411 “Administration of Air and Water Resources and Solid Waste Management Programs,” formerly SIC code #9511. Additionally water dischargers subject to certain requirements related to the WQS in the Great Lakes System include dischargers in the following NAICS codes: Mining (except oil and gas) (212), Food manufacturing (311), Paper manufacturing (322), Chemical manufacturing (325), Petroleum refineries (32411), Primary metal manufacturing (331), Fabricated metal product manufacturing (332), Machinery manufacturing (333), Computer and electronic product manufacturing (334), Electrical equipment, appliance, and component manufacturing (335), Transportation equipment manufacturing (336), Electric power generation, transmission, and distribution (2211), and Sewage treatment facilities (22132).

Respondent's obligation to respond: Voluntary.

Estimated number of potential respondents: 96 jurisdictions plus 2,323 Great Lakes dischargers.

Frequency of response: On occasion.

Total estimated burden: 286,981 hours (per year). Burden is defined at 5 CFR 1320.03(b).

Total estimated cost: $13,359,089 (per year). There are no annualized capital or operation & maintenance costs.

Changes in Estimates: There is an increase of 10,000 hours in the total estimated respondent burden compared with the ICR currently approved by OMB. This increase reflects an increase in the estimated number of respondents to reflect EPA's approval of water quality standards for four additional tribes. These estimates could change further if, for example, EPA approves water quality standards for additional tribes, or if there are changes in the burden related to expected NPDES permit activities in the Great Lakes basin covered by the ICR.

Dated: June 24, 2015.
Elizabeth Southerland,
Director, Office of Science and Technology.

[FR Doc. 2015-16234 Filed 6-30-15; 8:45 am]

BILLING CODE 6560-50-P